SMALL BUSINESS ADMINISTRATION

[Disaster Declaration #20730 and #20731; SAN CARLOS APACHE TRIBE Disaster Number AZ-20007]

Presidential Declaration Amendment of a Major Disaster for Public Assistance Only for the San Carlos Apache Tribe

AGENCY: U.S. Small Business Administration.

ACTION: Amendment 1.

SUMMARY: This is an amendment of the Presidential declaration of a major disaster for Public Assistance Only for the San Carlos Apache Tribe (FEMA—4833-DR), dated October 4, 2024.

Incident: Watch Fire.

Incident Period: July 10, 2024, through July 17, 2024.

DATES: Issued on October 21, 2024.

Physical Loan Application Deadline Date: December 16, 2024.

Economic Injury (EIDL) Loan Application Deadline Date: July 7, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the San Carlos Apache Tribe, dated 10/04/2024, is hereby amended to extend the deadline for filing applications for physical damage as a result of this disaster to 12/16/2024.

All other information in the original declaration remains unchanged.

(Catalog of Federal Domestic Assistance Number 59008)

Rafaela Monchek,
Deputy Associate Administrator, Office of Disaster Recovery & Resilience.

[FR Doc. 2024-24914 Filed 10-24-24; 8:45 am]

BILLING CODE 8026-09-P